GENERAL SERVICES ADMINISTRATION

[Notice-MA-2015-04; Docket No. 2015-0002; Sequence 22]

Federal Management Regulations; Improved Management of Undeliverable-as-Addressed Mail

AGENCY: Office of Government-Wide Policy, General Services Administration (GSA).

ACTION: Notice of a bulletin.

SUMMARY: The General Services Administration has issued Federal Management Regulation (FMR) Bulletin G-05, which provides guidance to Executive Branch agencies for improving management of undeliverable-as-addressed (UAA) mail. The bulletin provides agencies with information on the tools and best practices associated with UAA mail. The FMR Bulletin G-05 and all other FMR bulletins are located at http://www.gsa.gov/fmrbulletins.

DATES: Effective Date: August 26, 2015.

FOR FURTHER INFORMATION CONTACT: Ms. Cynthia Patterson, Office of Government-wide Policy (MAF), Office of Asset and Transportation Management, General Services Administration, at 703-589-2641 or via email at cynthia.patterson@gsa.gov. Please cite FMR Bulletin G-05.

SUPPLEMENTARY INFORMATION: FMR Bulletin G-05 consolidates information regarding tools and best practices for management of UAA mail from a number of sources. Better management of UAA mail reduces mailing costs and associated personnel costs, improves community outreach and relations, supports sustainability efforts by reducing printing, paper use, and energy consumption, and is consistent with the goals of Executive Orders 13589 and 13693, and the Federal Management Regulation. The four suggestions described in this bulletin are: (1) Establish internal policies to obtain and verify address correction, (2) prior to mailing, use USPS® certified vendors' address management tools, (3) actively manage returned mail with barcodes and scanning technology, and (4) track, monitor, and report returned mail on an annual basis to help the Federal community avoid UAA mail.

Dated: August 7, 2015.
Christine Harada,
Associate Administrator, Office of Government-wide Policy, General Services Administration.

[FR Doc. 2015-21187 Filed 8-25-15; 8:45 am]

BILLING CODE 6820-14-P